FEDERAL COMMUNICATIONS COMMISSION

47 CFR Chapter 1

[DA 08-2576; RM No. 11497]

Petition for Rulemaking Regarding Exclusivity Arrangements Between Commercial Wireless Carriers and Handset Manufacturers

AGENCY: Federal Communications Commission.

ACTION: Proposed rule; extension of comment period.

SUMMARY: In this document, the Commission extends the deadlines for filing comments and reply comments concerning the Rural Cellular Association's (RCA's) petition for rulemaking on the effects of exclusive arrangements between commercial wireless carriers and handset manufacturers.

DATES: Comments must be filed on or before February 2, 2009, and reply comments must be filed on or before February 20, 2009.

ADDRESSES: You may submit comments, identified in DA 08-2576, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Monica DeLong at 202-418-1337.

SUPPLEMENTARY INFORMATION: This is a summary of the Commission's Order, DA 08-2576, which was adopted and released on November 26, 2008. The complete text of this document is available for inspection and copying during normal business hours in the FCC Reference Information Center, Portals II (Room CY-A257), 445 12th Street, SW., Washington, DC 20554. The complete text of the Order and related Commission documents may be purchased from the Commission's copy contractor, Best Copy and Printing, Inc., 445 12th Street, SW., Room CY-B402, Washington, DC 20554, or you may contact BCPI at its Web site http://www.BCPIWEB.com, or by calling (800) 378-3160, facsimiles (202) 488-5563. When ordering documents from BCPI please provide the appropriate FCC document number, for example, DA-2576. The Order is available on the Commission's Web site: http://hraunfoss.fcc.gov/edocs_public/attachmatch/FCC-08-7-164A1.doc.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Summary of Order

1. On May 20, 2008, the Rural Cellular Association (RCA) filed a Petition for Rulemaking (Petition) asking the Commission to “initiate a rulemaking to investigate the widespread use and anticompetitive effects of exclusivity arrangements between commercial wireless carriers and handset manufacturers, and, as necessary, adopt rules that prohibit such arrangements when contrary to the public interest.” The Commission issued a Public Notice on October 10, 2008, seeking comments on the Petition. Comments and reply comments were due on December 2, and December 22, 2008, respectively, 72 FR 63127, October 23, 2008.

2. On November 20, 2008, RCA and CTIA—The Wireless Association filed a joint request (Request) for a 60-day extension of the comment and reply comment deadlines “to enable the Associations and their members to continue industry discussions regarding the issues raised in the RCA Petition with the goal of reaching an agreement among interested parties on the issues raised * * * or, at the very least, narrowing the issues for Commission consideration.” No party opposed the Request.

3. It is the policy of the Commission that extensions of time are not routinely granted. In the instant case, however, we find that providing a limited extension will serve the public interest by allowing parties to discuss the complex issues at stake and develop consensus approaches where possible. Accordingly, we are granting the Request by extending the deadline for all comments and reply comments to February 2, and February 20, 2009, respectively.

4. Pursuant to section 4(i) of the Communications Act of 1934, as amended, 47 U.S.C. 154(i), and 1.46 of the Commission's rules, 47 CFR 1.46, the Rural Cellular Association and CTIA—The Wireless Association Joint Request for Extension of Comment and Reply Comment Deadlines, filed on November 20, 2008, is granted, and the deadline for filing comments in response to the Public Notice is extended to February 2, 2009, and until February 20, 2009, to file reply comments.

5. This action is taken under delegated authority pursuant to Sections 0.131 and 0.331 of the Commission's Rules, 47 CFR 0.131 and 0.331.

Federal Communications Commission.
Joel D. Taubenblatt,
Deputy Chief, Wireless Telecommunications Bureau.

[FR Doc. E8-29533 Filed 12-11-08; 8:45 am]

BILLING CODE 6712-01-P